DEPARTMENT OF COMMERCE

Office of the Secretary

[Docket No. 220112-0012]

Department of Commerce's Identification of Federal Financial Assistance Infrastructure Programs Subject to the Build America, Buy America Provisions of the Infrastructure Investment and Jobs Act

AGENCY: Office of the Secretary, Department of Commerce.

ACTION: Notice of availability of Department of Commerce's Identification of Federal Financial Assistance Infrastructure Programs Subject to the Build America, Buy America Provisions of the Infrastructure Investment and Jobs Act report.

SUMMARY: The Department of Commerce (DOC) is publishing a report on DOC federal financial assistance infrastructure programs subject to the Build America, Buy America Act Provisions of the Infrastructure Investment and Jobs Act (Pub. L. 117-58). The report is entitled “Department of Commerce's Identification of Federal Financial Assistance Infrastructure Programs Subject to the Build America, Buy America Provisions of the Infrastructure Investment and Jobs Act.”

DATES: The DOC report will be available to the public on January 21, 2022.

ADDRESSES: The “Department of Commerce's Identification of Federal Financial Assistance Infrastructure Programs Subject to the Build America, Buy America Provisions of the Infrastructure Investment and Jobs Act” report is accessible at: https://www.commerce.gov/oam/policy/financial-assistance-policy. Members of the public who are unable to access the report electronically may request a copy of the report from DOC's Information Contact identified below.

FOR FURTHER INFORMATION CONTACT: Questions regarding the report should be directed to John Geisen, Financial Assistance Policy and Oversight Division Director at 202-482-4248 or jgeisen@doc.gov.

SUPPLEMENTARY INFORMATION: On November 15, 2021, President Biden signed into law the Infrastructure Investment and Jobs Act (IIJA), which includes the “Build America, Buy America Act” (Act). The Act ensures that Federal infrastructure programs require the use of materials produced in the United States, increases the requirement for American-made content, and strengthens the waiver process associated with Buy American provisions. The Act requires that within 60 days of its enactment, January 14, 2022, each federal agency must submit to the Office of Management and Budget and Congress a report (60-day report) listing all Federal financial assistance programs for infrastructure administered by the agency. In these 60-day reports, agencies are required to identify and provide a list of which of these programs are “deficient,” as defined in the Act. These agency reports must also be published in the Federal Register.

The DOC report satisfies the requirements of section 70913 of the Act and is accessible at: https://www.commerce.gov/oam/policy/financial-assistance-policy.

Barry E. Berkowitz,
Senior Procurement Executive and Director, Office of Acquisition Management.

[FR Doc. 2022-01103 Filed 1-20-22; 8:45 am]

BILLING CODE P